SMALL BUSINESS ADMINISTRATION

13 CFR Parts 125 and 127

RIN 3245-AG20

Acquisition Process: Task and Delivery Order Contracts, Bundling, Consolidation; Correction

AGENCY: Small Business Administration.

ACTION: Correcting amendments.

SUMMARY: The U.S. Small Business Administration (SBA) published a final rule in the Federal Register on October 2, 2013, which amended its regulations governing small business prime contracting by implementing provisions of the Small Business Jobs Act of 2010. That rule was published with inadvertent errors in two of the regulatory sections.

Those errors are corrected in this document.

DATES: Effective June 3, 2014.

FOR FURTHER INFORMATION CONTACT: Dean Koppel, Office of Government Contracting, U.S. Small Business Administration, 409 Third Street SW., 8th Floor, Washington, DC 20416; (202) 205-7322.

SUPPLEMENTARY INFORMATION: On October 2, 2013, SBA published a final rule to implement provisions of the Small Business Jobs Act of 2010 pertaining to small business contracting procedures. 78 FR 61114. As discussed in detail below, the rule contained inadvertent errors in the instructions for sections 125.6 and 127.503, which affected the final regulatory text for those sections.

In § 125.6, SBA intended to amend paragraph (a) by revising the introductory text only. However, the final rule contained an instruction to revise paragraph (a). As a result, the final rule inadvertently removed paragraphs (a)(1) through (a)(4). SBA is correcting § 125.6 by reinserting these paragraphs.

In § 127.503, SBA intended to remove paragraphs (a)(2) and (b)(2) and redesignate paragraphs (a)(3) and (b)(3) as paragraphs (a)(2) and (b)(2), respectively. However, the rule mistakenly instructed to revise paragraphs (a)(1), (a)(2), (b)(1), and (b)(2). As a result of this erroneous instruction, paragraphs (a)(3) and (b)(3) were not redesignated and are currently duplicates of paragraphs (a)(2) and (b)(2). SBA is correcting this duplication in § 127.503 by removing paragraphs (a)(3) and (b)(3).

List of Subjects

13 CFR Part 125

Government contracts, Government procurement, Reporting and recordkeeping requirements, Small businesses, Technical assistance.

13 CFR Part 127

Government procurement, Reporting and recordkeeping requirements, Small businesses.

Accordingly, 13 CFR Parts 125 and 127 are corrected by making the following correcting amendments:

PART 125—GOVERNMENT CONTRACTING PROGRAMS

1. The authority citation for part 125 continues to read as follows:

Authority: 15 U.S.C. 632(p), (q); 634(b)(6); 637; 644, 657(f); and 657(q).

2. Amend § 125.6 by adding paragraphs (a)(1) through (a)(4) to read as follows:

§ 125.6 What are the prime contractor performance requirements (limitations on subcontracting)?

(a) * * *

(1) In the case of a contract for services (except construction), the concern will perform at least 50 percent of the cost of the contract incurred for personnel with its own employees.

(2) In the case of a contract for supplies or products (other than procurement from a non-manufacturer in such supplies or products), the concern will perform at least 50 percent of the cost of manufacturing the supplies or products (not including the costs of materials).

(3) In the case of a contract for general construction, the concern will perform at least 15 percent of the cost of the contract with its own employees (not including the costs of materials).

(4) In the case of a contract for construction by special trade contractors, the concern will perform at least 25 percent of the cost of the contract with its own employees (not including the cost of materials).

* * * * *

PART 127—WOMEN-OWNED SMALL BUSINESS FEDERAL CONTRACT ASSISTANCE PROGRAM

3. The authority for part 127 continues to read as follows:

Authority: 15 U.S.C. 632, 634(b)(6), 637(m), and 644.

§ 127.503 [Amended]

4. In § 127.503, remove paragraphs (a)(3) and (b)(3).

Calvin Jenkins,
Deputy Associate Administrator for Government Contracting and Business Development.

[FR Doc. 2014-12609 Filed 6-2-14; 8:45 am]

BILLING CODE 8025-01-M